NATIONAL SCIENCE FOUNDATION

Proposal Review Panel for International Science and Engineering; Notice of Meeting

In accordance with the Federal Advisory Committee Act (Pub. L. 92-463, as amended), the National Science Foundation (NSF) announces the following meeting:

NAME AND COMMITTEE CODE: Proposal Review Panel for Office of International Science and Engineering—PIRE: Advanced Germanium Detectors and Technologies for Underground Physics (10749) Reverse Site Visit.

DATE AND TIME: February 28, 2020; 8 a.m.-5 p.m.

PLACE: National Science Foundation, 2415 Eisenhower Avenue, Room 3350, Alexandria, VA 22314.

TYPE OF MEETING: Part open.

CONTACT PERSON: Maija Kukla, PIRE Program Manager, National Science Foundation, 2415 Eisenhower Avenue, Alexandria, VA 22314; Telephone 703/292-7250.

PURPOSE OF MEETING: NSF reverse site visit to conduct a review during year 3 of the five-year award period. To conduct an in-depth evaluation of performance, to assess progress towards goals, and to provide recommendations.

AGENDA: See attached.

REASON FOR CLOSING: Topics to be discussed and evaluated during closed portions of the reverse site review will include information of a proprietary or confidential nature, including technical information; and information on personnel. These matters are exempt under 5 U.S.C. 552b(c), (4) and (6) of the Government in the Sunshine Act.

Dated: January 29, 2020.
Crystal Robinson,
Committee Management Officer.

Partnerships for International Research and Education (PIRE)

Reverse Site Visit Agenda

Date: Friday, February 28, 2020

8:00 a.m. Panelists arrive. Coffee/light refreshments available.

8:15 a.m.-8:45 a.m. Panel Orientation (CLOSED)

PIRE Rationale and Goals

Charge to Panel

8:45 a.m. PIs Arrive/Introductions

9:00 a.m.-11:00 a.m. PIRE Project Presentation

Overview of the Project and Project Management

Research Accomplishments and Impacts to Date

Benefits of International Partnerships

Integrating Research and Education

Educational Impact on Students

Research Plan and Future Activities to Achieve the Projects Goals

11:00 a.m.-11:30 a.m. Questions and Answers

12:00 p.m.-1:30 p.m. Working Lunch—Panel Discussion—(CLOSED)

1:30 p.m.-2:00 p.m. Student recruitment

Diversity

Communication and Outreach

Evaluation and Assessment

Institutional Support

2:00 p.m.-3:00 p.m. Initial Feedback to the PIRE Project Team (CLOSED)

3:00 p.m. PIRE Project Team is dismissed

3:00 p.m.-4:30 p.m. Panel Meets to Prepare Reverse Site Visit Report (CLOSED)

4:30 p.m.-4:45 p.m. Panel Meets with NSF Staff to Discuss the Report (CLOSED)

5:00 p.m. End of Reverse Site Visit

[FR Doc. 2020-01944 Filed 1-31-20; 8:45 am]

BILLING CODE 7555-01-P